DEPARTMENT OF TRANSPORTATION

Federal Transit Administration

Notice of Limitation on Claims Against Proposed Public Transportation Projects

AGENCY: Federal Transit Administration (FTA), DOT.

ACTION: Notice of limitation on claims.

SUMMARY: This notice announces final environmental actions taken by the Federal Transit Administration (FTA) for projects in the following locations: New York, NY; Charlotte, NC; Savannah, GA; and Irving and Grapevine, TX. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of the FTA actions announced herein for the listed public transportation project will be barred unless the claim is filed on or before July 2, 2012.

FOR FURTHER INFORMATION CONTACT: Nancy-Ellen Zusman, Assistant Chief Counsel, Office of Chief Counsel, (312) 353-2577 or Terence Plaskon, Environmental Protection Specialist, Office of Human and Natural Environment, (202) 366-0442. FTA is located at 1200 New Jersey Avenue SE., Washington, DC 20590. Office hours are from 9 a.m. to 5:30 p.m., EST, Monday through Friday, except Federal holidays.

SUPPLEMENTARY INFORMATION: Notice is hereby given that FTA has taken final agency actions by issuing certain approvals for the public transportation projects listed below. The actions on these projects, as well as the laws under which such actions were taken, are described in the documentation issued in connection with the project to comply with the National Environmental Policy Act (NEPA) and in other documents in the FTA administrative record for the projects. Interested parties may contact either the project sponsor or the relevant FTA Regional Office for more information on the project. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period of 180 days for challenges of project decisions subject to previous notices published in the Federal Register. The projects and actions that are the subject of this notice are:

1. Project name and location: East Side Access, New York, NY. Project sponsor: Metropolitan Transportation Authority. Project description: The East Side Access Project will connect the Long Island Rail Road's (LIRR) Main and Port Washington Lines in Queens to a new LIRR terminal beneath Grand Central Terminal in Manhattan. Various project changes have been evaluated in five technical memoranda. Final agency actions: FTA determination that neither a supplemental environmental impact statement nor a supplemental environmental assessment is necessary. Supporting documentation: Technical Memorandum No. 6, assessing design changes to the 48th Street Entrance, dated November 2011.

2. Project name and location: LYNX Blue Line Extension Northeast Corridor Light Rail Project, Charlotte, NC. Project sponsor: Charlotte Area Transit System. Project description: The project will add approximately 9.4 miles of light rail line and 11 new stations to the existing light rail system. This will extend service from Ninth Street in Center City through the North Davidson and University areas to UNC Charlotte. Final agency actions: Section 4(f) de minimis impact determination; Section 106 finding of no adverse effect; project-level air quality conformity; and Record of Decision, dated December 2011. Supporting documentation: LYNX Blue Line Extension Northeast Corridor Light Rail Project Final Environmental Impact Statement, August 2011.

3. Project name and location: Chatham Area Transit Downtown Intermodal Terminal, Savannah, GA. Project sponsor: Chatham Area Transit Authority (CAT). Project description: The proposed change in the project consists of the construction of a Downtown Intermodal Terminal for bus operations in Savannah, GA. The facility will be constructed in an existing transportation building that currently is used by the Greyhound Bus Service. The building will be renovated to allow for joint operations of both the local transit system operated by CAT as well as the intercity transit system operated by Greyhound. Final agency actions: Section 4(f) de minimis impact determination; a Section 106 Memorandum of Agreement; project-level air quality conformity; and Revised Finding of No Significant Impact (Revised FONSI), dated December 2011. Supporting documentation: Chatham Area Transit Environmental Assessment, dated September 2008.

4. Project name and location: Dallas Area Rapid Transit Orange Line Dallas/Fort Worth (DFW) Airport Extension (Irving-3), Irving and Grapevine, TX. Project sponsor: Dallas Area Rapid Transit (DART). Project description: The project consists of a 5.17-mile light rail transit (LRT), double track alignment that extends northwest from the Belt Line Station (current terminus of the Orange Line) before turning south along International Parkway to end near Terminal A. The alignment is primarily at-grade but also consists of portions of retained earth and aerial structures. A storage yard, the DFW Airport LRT Station and its pedestrian linkages are included as part of the project. Final agency actions: no use of Section 4(f) resources; Section 106 finding of no adverse effect; project-level air quality conformity; and Finding of No Significant Impact (FONSI), dated October 2011. Supporting documentation: Orange Line DFW Airport Extension (Irving-3) Environmental Assessment, September 2011.

Issued on: December 29, 2011.
Lucy Garliauskas,
Associate Administrator for Planning and Environment, Washington, DC.

[FR Doc. 2011-33748 Filed 1-3-12; 8:45 am]

BILLING CODE P